DEPARTMENT OF TRANSPORTATION

Federal Highway Administration

Environmental Impact Statement: Clark County, NV

AGENCY: Federal Highway Administration (FHWA), DOT.

ACTION: Notice of intent.

SUMMARY: The FHWA is issuing this notice to advise the public that an environmental impact statement will be prepared for a proposed freeway project in the cities of Las Vegas and Henderson, Clark County, Nevada.

FOR FURTHER INFORMATION CONTACT: Ted P. Bendure, Environmental Program Manager, Federal Highway Administration, 705 N. Plaza, Suite 220, Carson City, NV 89701, Telephone: 775-687-5322, e-mail: ted.bendure@fhwa.dot.gov.

SUPPLEMENTARY INFORMATION: The FHWA, in cooperation with the Nevada Department of Transportation, will prepare an environmental impact statement (EIS) on a proposal to improve Interstate 515 (I-515) in the cities of Las Vegas and Henderson, Clark County, Nevada and in that portion of unincorporated Clark County located between the two cities. The proposed project would involve improvements to the I-515 Corridor between the southern terminus of the present I-515 Freeway in the City of Henderson (MP56) and the northern terminus of I-515 in the City of Las Vegas (MP76). The proposed project covers a total distance of approximately 20 miles on the present route.

Improvements to the corridor are considered necessary to provide for the existing and projected traffic demand resulting from the growth of interstate traffic and local commuter traffic in the southeast region of the Las Vegas Valley. Specifically, the project will evaluate improvements to I-515 to mitigate congestion along the freeway corridor, widening and upgrading the existing freeway, upgrading existing interchanges, providing new interchanges at F Street and Sahara Avenue, and realigning Bonanza Road at Las Vegas Boulevard. The EIS will consider the effects of the proposed project, the No Action alternative, and other alternatives to the proposed project.

Letters describing the proposed action and soliciting comments will be sent to appropriate Federal, State, and local agencies, and to private organizations and citizens who have previously expressed or are known to have interest in this project. A public scoping meeting will be held September 14, 2004, and local notice will be provided. The Web site for the project is http://www.i515study.com. In addition, public information meetings will be held throughout the duration of the project and a public hearing will be held for the draft EIS. Public notices will be given announcing the time and place of the public meetings and the hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)
Issued on August 9, 2004.
Susan Klekar,
Nevada Division Administrator, Federal Highway Administration, Carson City, Nevada.

[FR Doc. 04-18584 Filed 8-12-04; 8:45 am]

BILLING CODE 4910-22-M